DEPARTMENT OF ENERGY

Federal Energy Regulatory Commission

[Docket No. EL10-73-000]

BE Louisiana, LLC; Notice of Institution of Section 206 Proceeding and Refund Effective Date

August 12, 2010.

On August 11, 2010, the Commission issued an order that instituted a proceeding in Docket No. EL10-73-000, pursuant to section 206 of the Federal Power Act (FPA), 16 USC 824e, to determine whether the J.P. Morgan Sellers' ¹ market-based rate authority in the Cleco Corporation, Inc. balancing authority area remains just and reasonable. BE Louisiana, LLC, 132 FERC ¶ 61,118 (2010).

¹ For purposes of this notice, the J.P. Morgan Sellers are BE Louisiana, LLC, Cedar Brakes I, L.L.C., Cedar Brakes II, L.L.C., J.P. Morgan Commodities Canada Corporation, J.P. Morgan Ventures Energy Corporation, and Utility Contract Funding, L.L.C.

The refund effective date in Docket No. EL10-73-000, established pursuant to section 206(b) of the FPA, will be the date of publication of this notice in the Federal Register.

Kimberly J. Bose,
Secretary.

[FR Doc. 2010-20456 Filed 8-17-10; 8:45 am]

BILLING CODE 6717-01-P